DEPARTMENT OF COMMERCE

International Trade Administration

[A-357-823]

Raw Honey From Argentina: Preliminary Results and Rescission, In Part, of Antidumping Duty Administrative Review; 2023-2024

AGENCY: Enforcement and Compliance, International Trade Administration, Department of Commerce.

SUMMARY: The U.S. Department of Commerce (Commerce) preliminarily determines that Asociación De Cooperativas Argentinas Cooperativa Limitada (ACA), NEXCO S.A. (NEXCO), and certain companies not selected for individual examination for which a review was requested made sales of raw honey from at less than normal value (NV) during the period of review (POR), June 1, 2023, through May 31, 2024. We are also rescinding this review, in part, with respect to eight companies that had no suspended entries. We invite interested parties to comment on these preliminary results.

DATES: Applicable October 3, 2025.

FOR FURTHER INFORMATION CONTACT: Thomas Martin or Zachary Shaykin, AD/CVD Operations, Office IV, Enforcement and Compliance, International Trade Administration, U.S. Department of Commerce, 1401 Constitution Avenue NW, Washington, DC 20230; telephone: (202) 482-3936 or (202) 482-2638, respectively.

SUPPLEMENTARY INFORMATION:

Background

On June 10, 2022, Commerce published in the Federal Register the antidumping duty (AD) order on raw honey from Argentina.¹ On July 29, 2024, Commerce initiated an administrative review of the Order covering 28 companies, in accordance with section 751(a) of the Tariff Act of 1930, as amended (the Act).² On December 9, 2024, Commerce tolled certain deadlines in this administrative review by 90 days.³ On May 13, 2025, we extended the deadline to issue the preliminary results to September 26, 2025.⁴ On September 24, 2025, we extended the deadline for the preliminary results of this review to September 29, 2025.⁵ For details regarding the events that occurred subsequent to the initiation of this review, see the Preliminary Decision Memorandum.⁶ A list of topics discussed in the Preliminary Decision Memorandum is included in Appendix I to this notice.

¹ See Raw Honey from Argentina, Brazil, India, and the Socialist Republic of Vietnam: Antidumping Duty Orders, 87 FR 35501 (June 10, 2022) (Order).

² See Initiation of Antidumping and Countervailing Duty Administrative Reviews, 90 FR 60871 (July 29, 2024) (Initiation Notice).

³ See Memorandum, “Tolling of Deadlines for Antidumping and Countervailing Duty Proceedings”, dated December 9, 2024.

⁴ See Memorandum, “Raw Honey from Argentina: Extension of Deadline for the Preliminary Results of Antidumping Duty Administrative” (May 13, 2025).

⁵ See Memorandum, “Raw Honey from Argentina: Extension of Deadline for the Preliminary Results of Antidumping Duty Administrative” (September 24, 2025).

⁶ See Memorandum, “Decision Memorandum for the Preliminary Results of the Antidumping Duty Administrative Review of Raw Honey from Argentina; 2023-2024,” dated concurrently with, and hereby adopted by, this notice (Preliminary Decision Memorandum).

The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise covered by the Order is raw honey from Argentina. For a complete description of the scope of the Order, see the Preliminary Decision Memorandum.

Rescission, in Part, of Administrative Review

Pursuant to 19 CFR 351.213(d)(3), Commerce will rescind an administrative review when there are no entries of subject merchandise during the POR for which liquidation is suspended.⁷ Normally, upon completion of an administrative review, the suspended entries are liquidated at the AD assessment rate calculated for the review period.⁸ Therefore, for an administrative review of a company to be conducted, there must be a suspended entry that Commerce can instruct and U.S. Customs and Border Protection (CBP) to liquidate at the AD assessment rate calculated for the POR.⁹

⁷ See, e.g., Large Diameter Welded Pipe from Greece: Rescission of Antidumping Duty Administrative Review; 2022-2023, 89 FR 4274 (January 23, 2024).

⁸ See 19 CFR 351.212(b)(2).

⁹ See 19 CFR 351.213(d)(3).

On September 10, 2025, we notified parties of our intent to rescind this administrative review, in part, with respect to the eight companies listed in Appendix II because there were no suspended entries of subject merchandise produced or exported by these companies during the POR. We invited interested parties to comment.¹⁰ No parties commented on our intent to rescind the review, in part. In the absence of suspended entries of subject merchandise from these companies during the POR, we are rescinding, in part, the administrative review for the eight companies listed in Appendix II, in accordance with 19 CFR 351.213(d)(3).

¹⁰ See Memorandum, “Notice of Intent to Rescind Review, In Part,” dated September 11, 2025.

Methodology

Commerce is conducting this review in accordance with sections 751(a)(1) and (2) of the Act. We calculated constructed export price for both mandatory respondents in accordance with section 772(b) of the Act. We calculated NV in accordance with section 773 of the Act. For a full description of the methodology underlying these preliminary results, see the Preliminary Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value investigation, for guidance when calculating the weighted-average dumping margin for companies which were not selected for individual examination in an administrative review.

Under section 735(c)(5)(A) of the Act, the all-others rate is normally “an amount equal to the weighted average of the estimated weighted-average dumping margins established for exporters and producers individually investigated, excluding any zero or de minimis margins, and any margins determined entirely on the basis of facts available.”

In this review, we calculated weighted-average dumping margin for ACA and NEXCO that are not zero, de minimis, or determined entirely on the basis of facts available. Therefore, Commerce assigned a weighted-average dumping margin to the non-examined companies based on a weighted-average using publicly ranged sales data and the weighted average dumping margins preliminarily calculated for the two mandatory respondents, as listed below.¹¹

¹¹ See Memorandum, “Administrative Review of Raw Honey from Argentina; 2023-2024: Calculation of the Preliminary Margin for Respondents Not Selected for Individual Examination,” dated concurrently with, and hereby adopted by, this memorandum.

Preliminary Results of the Review

We preliminarily determine that the following estimated weighted-average dumping margins exist for the period of June 1, 2023, through May 31, 2024:

Producer or exporter | Weighted-average dumping margin (percent)
Asociación De Cooperativas Argentinas Cooperativa Limitada | 31.52
NEXCO S.A | 1.22
Review-Specific Rate for Non-Examined Companies ¹² | 4.33

Disclosure

¹² See Appendix III.

Commerce intends to disclose its calculations and analysis performed for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to not later than 21 days after the date of the publication of this notice.¹³ Rebuttal briefs, limited to issues raised in the case briefs, may be filed no later than five days after the date for filing case briefs.¹⁴ Interested parties who submit case briefs or rebuttal briefs in this proceeding must submit: (1) a table of contents listing each issue addressed; and (2) a table of authorities.¹⁵

¹³ See 19 CFR 351.309.

¹⁴ See 19 CFR 351.309(d); see also Administrative Protective Order, Service, and Other Procedures in Antidumping and Countervailing Duty Proceedings, 88 FR 67069, 67077 (September 29, 2023) (APO and Service Final Rule).

¹⁵ See 19 CFR 351.309(c)(2) and (d)(2).

As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁶ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Procedures.

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) party's name, address, and telephone number; (2) the number of participants; and (3) a list of the issues to be discussed. Oral presentations at the hearing will be limited to issues raised in the briefs. If a request for a hearing is made, parties will be notified of the time and date for the hearing.¹⁸

¹⁸ See 19 CFR 351.310(d).

Assessment Rates

Upon completion of this administrative review, Commerce shall determine, and CBP shall assess, antidumping duties on all appropriate entries. The final results of this review shall be the basis for the assessment of antidumping duties on entries of merchandise covered by this review and for future deposits of estimated antidumping duties.¹⁹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁹ See section 751(a)(2)(C) of the Act.

For an individually examined respondent whose weighted-average dumping margin is not zero or de minimis (i.e., less than 0.50 percent), upon completion of the final results, Commerce intends to calculate importer-specific AD assessment rates on the basis of the ratio of the total amount of dumping calculated for each importer's examined sales to the total entered value of those sales. Pursuant to 19 CFR 351.212(b)(1), neither ACA nor NEXCO reported actual entered value for all its U.S. sales; in such instances, we calculated importer-specific per-unit duty assessment rates by aggregating the importer's amount of dumping calculated for the examined sales and dividing this amount by the total quantity of those sales. To consider whether the importer-specific assessment rate is de minimis we estimated the enter value for each U.S. sale and calculated an estimated ad valorem importer-specific assessment rate as the importer's aggregated amount of dumping divided by the estimated entry value of those sales. Where either a respondent's weighted-average dumping margin is zero or de minimis, or an importer-specific estimated ad valorem assessment rate is zero or de minimis, we intend to instruct CBP to liquidate appropriate entries without regard to antidumping duties.²⁰

²⁰ See 19 CFR 351.106(c)(2); see also Antidumping Proceeding: Calculation of the Weighted-Average Dumping Margin and Assessment Rate in Certain Antidumping Proceedings; Final Modification, 77 FR 8101, 8103 (February 14, 2012).

Commerce's “automatic assessment” practice will apply to entries of subject merchandise during the POR produced by ACA or NEXCO for which it did not know that the merchandise it sold to an intermediary (e.g., a reseller, trading company, or exporter) was destined for the United States. In such instances, we will instruct CBP to liquidate those entries at the all-others rate (i.e., 16.92 percent) ²¹ if there is no rate for the intermediate company(ies) involved in the transaction.²²

²¹ See Raw Honey from Argentina: Final Determination of Sales at Less Than Fair Value and Final Affirmative Determination of Critical Circumstances, 87 FR 22179, 22181 (April 14, 2022) (Honey Argentina Inv Final).

²² For a full discussion of this practice, see Antidumping and Countervailing Duty Proceedings: Assessment of Antidumping Duties, 68 FR 23954 (May 6, 2003).

For the companies that were not selected for individual examination, the antidumping duty assessment rate will be equal to the weighted-average dumping margin calculated for each companies in the final results of this review.

For the companies listed in Appendix II for which we are rescinding this review, we intend to instruct CBP to assess antidumping duties on all appropriate entries at a rate equal to the cash deposit of estimated antidumping duties required at the time of entry, or withdrawal from warehouse, in accordance with 19 CFR 351.212(c)(l)(i).

Cash Deposit Requirements

The following cash deposit requirements will be effective for all shipments of the subject merchandise entered, or withdrawn from warehouse, for consumption on or after the publication date of the final results of this administrative review, as provided by section 751(a)(2)(C) of the Act: (1) for subject merchandise exported by one of the companies listed above, the cash deposit rate will be equal to the weighted- average dumping margin established for that exporter in the final results of this review, except if the rate is de minimis (i.e., less than 0.50 percent), in which case the cash deposit rate will be zero; (2) for an exporter of subject merchandise previously reviewed or investigated companies not covered by this review, the cash deposit rate will continue to be equal to the company-specific rate published for the most recently-completed segment of this proceeding in which they were examined; (3) if the exporter is not a firm covered in this review, a prior review, or the LTFV investigation, but the producer is, the cash deposit rate will be equal to the rate established for the most recently-completed segment of this proceeding for the producer of the merchandise; and (4) the cash deposit rate for all other producers and exporters will continue to be 16.92 percent, the all- others rate established in the Amended Final Determination.²³ These cash deposit requirements, when imposed, shall remain in effect until further notice.

²³ See Honey Argentina Inv. Final, 87 FR at 22181.

Final Results of Review

Unless otherwise extended, Commerce intends to issue the final results of this administrative review including the results of its analysis of issues raised in written briefs, no later than 120 days after the date of publication of this notice in the Federal Register, pursuant to 751(a)(3)(A) of the Act and 19 CFR 351.213(h)(1).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, 19 CFR 351.213, and 19 351.221(b)(4).

Dated: September 29, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Rescission of Review, In Part

V. Discussion of the Methodology

VI. Currency Conversion

VII. Recommendation

Appendix II

Companies for Which Commerce Is Rescinding this Review

1. Algodonera Avellaneda S.A.

2. Apicola Danangie

3. Argentik LLC

4. Camino de Circunvalancion y Calle

5. Compania Inversora Platense S.A.

6. Cooperativa Apicola La Colmena Ltda

7. Industrial Haedo S.A

8. Mieles Cor Pam Srl).

Appendix III

Non-Examined Companies Receiving a Review-Specific Rate

1. Azul Agronegocios S.A.

2. Compania Apicola Argentina S.A.

3. Compania Inversora Platense S.A.

4. Cooperativa Apicola La Colmena Ltda.

5. D'Ambros Maria De Los Angeles D'Ambros Maria Daniela SRL.

6. D'Ambros Maria de los Angeles y D'Ambros Maria Daniela SRL.

7. Gasrroni Srl.

8. Gasrroni S.R.L.

9. Geomiel SA.

10. Gruas San Blas S.A.

11. Honey and Grains SRL.

12. Naiman S.A.

13. Newsan S.A.

14. Newsan Food S.A.

15. Osbo S.A.

16. Patagonik Food S.A.

17. Promiel Srl (Vicentin S.A.I.C.).

18. Terremare Foods S.A.S.

19. Villamora S.A

[FR Doc. 2025-19415 Filed 10-2-25; 8:45 am]

BILLING CODE 3510-DS-P